DEPARTMENT OF HOMELAND SECURITY

Coast Guard

33 CFR Part 117

[Docket No. USCG-2012-0815]

Drawbridge Operation Regulations; Fort Point Channel, Boston, MA

AGENCY: Coast Guard, DHS.

ACTION: Notice of temporary deviation from regulations.

SUMMARY: The Commander, First Coast Guard District, has issued a temporary deviation from the regulation governing the operation of the Northern Avenue Bridge, mile 0.1, across the Fort Point Channel, at Boston, Massachusetts. Under this temporary deviation a six-hour advance notice for bridge opening shall be required at the bridge to facilitate bridge repairs.

DATES: This deviation is effective from 11 p.m. on September 16, 2012 through 9 a.m. on September 20, 2012.

ADDRESSES: Documents mentioned in this preamble as being available in the docket are part of docket USCG-2012-0815 and are available online at www.regulations.gov, inserting USCG-2012-0815 in the “Keyword” and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Mr. John McDonald john.w.mcdonald@uscg.mil, Project Officer, First Coast Guard District, telephone (617) 223-8364. If you have questions on viewing the docket, call Renee V. Wright, Program Manager, Docket Operations, telephone 202-366-9826.

SUPPLEMENTARY INFORMATION: The Northern Avenue Bridge, across the Fort Point Channel, mile 0.1, has a vertical clearance in the closed position of 7 feet at mean high water and 17 feet at mean low water. The existing drawbridge operation regulations are listed at 33 CFR 117.599.

The waterway has seasonal recreational vessels of various sizes.

The owner of the bridge, the City of Boston, requested a temporary deviation to facilitate the replacement of deck support. The bridge cannot open while the stringers are unsecured. A six-hour advance notice for bridge openings was requested to allow sufficient time to safely open the bridge.

Under this temporary deviation the Northern Avenue Bridge, mile 0.1, across the Fort Point Channel may require a six-hour advance notice for bridge openings between 11 p.m. and 9 a.m. from September 16, 2012 through September 20, 2012. Vessels that can pass under the bridge without a bridge opening may do so at all times. There are no alternate routes available for navigation. The bridge cannot open for an emergency while any steel remains unsecured.

In accordance with 33 CFR 117.35(e), the bridge must return to its regular operating schedule immediately at the end of the designated time period. This deviation from the operating regulations is authorized under 33 CFR 117.35.

Dated: August 31, 2012.
Gary Kassof,
Bridge Program Manager, First Coast Guard District.

[FR Doc. 2012-22485 Filed 9-11-12; 8:45 am]

BILLING CODE 9110-04-P